DEPARTMENT OF COMMERCE

National Oceanic and Atmospheric Administration

RIN 0648-XX00

Notice of Estuary Habitat Restoration Council's Intent to Revise its Estuary Habitat Restoration Strategy; Request for Public Comment

AGENCY: National Marine Fisheries Service (NMFS), National Oceanic and Atmospheric Administration (NOAA), Commerce.

ACTION: Notice; request for comments.

SUMMARY: NOAA, on behalf of the interagency Estuary Habitat Restoration Council, is providing notice of the Council's intent to revise the ''Estuary Habitat Restoration Strategy” and requesting public comments to guide its revision.

DATES: Comments and information must be received by July 21, 2010.

ADDRESSES: Send comments to Estuary Habitat Restoration Strategy, NOAA Fisheries Service, 1315 East-West Highway, Room 14730, Silver Spring, MD 20910. Electronic comments may be submitted to estuaryrestorationact@noaa.gov. NOAA is not responsible for e-mail comments sent to addresses other than the one provided here. Comments should be in one of the following formats: Word or Word Perfect. The subject line for submission of comments should begin with “Estuary Habitat Restoration Strategy comments from [insert name of agency, organization, or individual].” Comments sent via e-mail, including all attachments, must not exceed a 10-megabyte file size.

All comments received are a part of the public record and may be posted to http://era.noaa.gov without change. All Personal Identifying Information (for example, name, address, etc.) voluntarily submitted by the commenter may be publicly accessible. Do not submit Confidential Business Information or otherwise sensitive or protected information.

A copy of the strategy and other documents related to the proposed revision may be obtained by writing to the address specified above, telephoning the contact listed below (see FOR FURTHER INFORMATION CONTACT), or visiting http://era.noaa.gov.

FOR FURTHER INFORMATION CONTACT: Jenni Wallace, NOAA Fisheries Service, Silver Spring, MD, 301-713-0174.

SUPPLEMENTARY INFORMATION: The Estuary Restoration Act of 2000, title I of Pub. L. 106-457, as amended by Section 5017 of the Water Resources Development Act of 2007, Pub. L. 110-114, has four purposes: (1) promotion of estuary habitat restoration; (2) development of a national strategy for creating and maintaining effective estuary habitat restoration partnerships; (3) provision of Federal assistance for estuary habitat restoration projects; and (4) development and enhancement of monitoring and research capabilities to ensure that estuary habitat restoration efforts are based on sound scientific understanding and innovative technologies.

The Estuary Habitat Restoration Council, consisting of representatives from Department of the Army, National Oceanic and Atmospheric Administration, the Environmental Protection Agency, United States Fish and Wildlife Service, and the Department of Agriculture, was established to oversee implementation of the Act.

The Council was charged with developing an estuary habitat restoration strategy designed to ensure a comprehensive approach to maximize benefits and foster coordination of Federal and non-Federal activities. Elements of the strategy are discussed in section 106(d) of the Act.

In December 2002, the Estuary Habitat Restoration Council published the Final Estuary Habitat Restoration Strategy (67 FR 71942). Section 106(f) of the Act authorizes the Council to periodically review and update the estuary habitat restoration strategy. The Council is initiating the process for revising the strategy. The intent of this notice is to notify the public of the Council's intent to revise the strategy and obtain comments to guide that revision. Consistent with Section 106(e) of the Estuary Restoration Act, the Council will provide additional opportunity for the public to review and comment on a draft revised strategy once it is prepared.

Although the Estuary Restoration Act lists a number of issues that must be addressed in the strategy, the Council is interested in aligning the strategy with the Ocean Policy task force goals and in identifying focus areas for the estuary habitat restoration strategy, such as: climate adaptation restoration, socio-economic benefits of estuary habitat restoration, and geographic restoration prioritization.

The Council is not seeking comments on a revised estuary habitat restoration strategy at this time. The intent of this notice is to solicit ideas that may be incorporated into a revised estuary habitat restoration strategy. The Council will use comments obtained in response to this notice to guide its development of a draft revised strategy. It intends to prepare a draft revised estuary habitat restoration strategy in the fall of 2010 and, in accordance with Section 106(e) of the Estuary Restoration Act of 2000, make it available for public review and comment. After reviewing public comments on the draft, the Council intends to draft and release a final revised estuary habitat restoration strategy in early 2011.

Authority: 16 U.S.C. 2905(e)

Dated: June 15, 2010.
Patricia A. Montanio,
Director, Office of Habitat Conservation, National Marine Fisheries Service.

[FR Doc. 2010-14976 Filed 6-18-10; 8:45 am]

BILLING CODE 3510-22-S